ENVIRONMENTAL PROTECTION AGENCY

[ER-FRL-6660-1]

Environmental Impact Statements and Regulations; Availability of EPA Comments

Availability of EPA comments prepared pursuant to the Environmental Review Process (ERP), under section 309 of the Clean Air Act and section 102(2)(c) of the National Environmental Policy Act, as amended. Requests for copies of EPA comments can be directed to the Office of Federal Activities at (202) 564-7167. An explanation of the ratings assigned to draft environmental impact statements (EISs) was published in the Federal Register dated April 2, 2004 (69 FR 17403).

Draft EISs

ERP No. D-AFS-F65047-IN Rating LO, German Ridge Restoration Project, To Restore Native Hardwood Communities, Implementation, Hoosier National Forest, Tell City Ranger District, Perry County, IN.

Summary: EPA has no objections with the proposed restoration project; however, we recommended that a schedule for prescribed burns and timber removal be included in the FEIS.

ERP No. D-BLM-K65274-NV Rating EC2, Las Vegas Valley Disposal Boundary Project, Disposal and Use of Public Land under the Management of (BLM), Implementation, Clark County, NV.

Summary: EPA expressed environmental concerns about impacts to wetlands and Waters of the U.S., general conformity under the Clean Air Act, the analysis of alternatives, and consultation with tribal governments.

ERP No. D-FHW-C40164-NY Rating EC2, NY Route 17—Elmira to Chemung Project, Proposed Highway Reconstruction, New Highway Construction, Bridge Rehabilitation/Replacement, Funding and U.S. Army COE Section 404 Permit, Town and City of Elmira, Town of Ashland and Chemung, Chemung County, NY.

Summary: EPA has concerns with the proposed project due to indirect impacts to water quality and wetlands, and suggested firmer mitigation measures be implemented to address these concerns.

ERP No. D-FHW-D40325-PA Rating EC2, U.S. 219 Improvements Project, Meyersdale to Somerset, SR 6219, Section 020, Funding, U.S. COE Section 404 Permits, Somerset County, PA.

Summary: EPA has environmental concerns with the proposed project regarding impacts to wetlands, endangered species, aquatic resources, air quality, and environmental justice.

ERP No. D-FHW-F40426-OH Rating EC2, Eastern Corridor Multi-Modal (Tier 1) Project, To Implement a Multi-Modal Transportation Program between the City of Cincinnati and Eastern Suburbs in Hamilton and Clermont Counties, OH.

Summary: EPA has concerns with the proposed project, primarily regarding a new bridge span across the Little Miami River, a designated Wild and Scenic River. These concerns include unresolved questions regarding visual impacts, and cumulative, indirect and secondary impacts to the river's identified characteristics.

ERP No. D-FHW-J40167-UT Rating EC2, Brown Park Road Project, Reconstruction (Paving) and Partial Re-alignment from Red Creek to Colorado State Line, Diamond Mountain Resource Management Plan Amendment (BLM), U.S. Army COE Section 404 Permit, Daggett County, UT.

Summary: EPA has environmental concerns with the proposed project regarding habitat fragmentation, impacts to wildlife due to vehicle collisions, and the introduction of invasive species.

ERP No. D-NIH-D81035-MD Rating EC2, National Institutes of Health (NIH) Master Plan 2003 Update, National Institutes of Health Main Campus—Bethesda, MD, Montgomery County, MD.

Summary: EPA expressed concerns regarding impacts from land development and storm water management. EPA requested that the final EIS address the function and value of the existing hardwoods that will be lost, and provide an outline of the mitigation.

ERP No. DS-BIA-A65165-00 Rating EC2, Programmatic—Navajo Nation 10-Year Forest Management Plan, New and Updated Information on Alternatives, Chuska Mountains and Defiance Plateau Area, AZ and NM.

Summary: EPA expressed concerns regarding cumulative impacts and implementation of the Range Assessment and Management Plan (RAMP), and requested that existing environmental information be incorporated into the alternatives and cumulative impact analyses.

ERP No. DS-FHW-E40325-NC Rating EC2, Eastern Section of the Winston-Salem Northern Beltway, U.S. 52 south to I-40 Business and I-40 Business south to U.S. 311, Improvements to the Surface Transportation Network, TIP Project Nos. U-2579 and U-2579A, Forsyth County, NC.

Summary: EPA continues to have environmental concerns with the proposed project regarding the number of residential relocations required as well as impacts to aquatic stream habitat and water supply.

Final EISs

ERP No. F-AFS-E65067-00 Land Between the Lakes National Recreation Area, Proposes to Revise TVA's 1994 Natural Resources Management Plan, Development of a Land Management Resource Plan or Area Plan, Gold Pond, Trigg and Lyon Counties, KY and Stewart County, TN.

Summary: The Final EIS has addressed our concerns and EPA has no objections to the project.

ERP No. F-COE-G39041-LA Programmatic EIS—Louisiana Coastal Area (LCA) Ecosystem Restoration Study, Implementation, Tentatively Selected Plan, Mississippi River, LA.

Summary: EPA continues to express full support for the Louisiana Coastal Area Plan, recognizing that the Plan is the appropriate next step in the ongoing effort to address wetland and barrier island loss in coastal Louisiana.

ERP No. F-DHS-D11036-MD National Biodefense Analysis and Countermeasures Center (NBACC) Facility at Fort Detrick, Construction and Operation, Fort Detrick, Frederick County, MD.

Summary: The Final EIS provided adequate responses to EPA's comments.

ERP No. F-FHW-E40795-NC U.S.-17 Interstate Corridor Improvements, south of NC-1127 (Possum Track Road) to north of NC-1418 (Roberson Road) Funding and Permit Issuance, City of Washington and Town of Chocowinity Vicinity, Beaufort and Pitt Counties, NC.

Summary: EPA has no objections to the preferred alternative.

ERP No. F-FHW-F40368-WI U.S.-12 Highway Corridor Project, Improvement from 1H90/94 at Lake Delton south to Ski Hi Road, Selected Preferred Alternative, Funding and U.S. Army COE Section 404 Permit Issuance, Sauk County, WI.

Summary: EPA has no objections to the preferred alternative.

ERP No. F-FHW-F40409-IN IN-25 Transportation Corridor Improvements from I-65 Interchange to U.S. 24, Funding, Right-of-Way and U.S. Army COE Section 404 Permit Issuance, Hoosier Heartland Highway, Tippecanoe, Carroll and Cass Counties, IN.

Summary: EPA has no objections to the preferred alternative.

ERP No. F-FHW-L40206-WA WA-104/Edmonds Crossing Project, Connecting Ferries, Bus and Rail, Funding, NPDES Permit and COE Section 10 and 404 Permits, City of Edmonds, Snohomish County, WA.

Summary: No comment letter was sent to the preparing agency.

Dated: January 25, 2005.
Robert W. Hargrove,
Director, NEPA Compliance Division, Office of Federal Activities.

[FR Doc. 05-1628 Filed 2-3-05; 8:45 am]

BILLING CODE 6560-50-P